DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 14, 2004 [FR docket # 04-27305, Vol. 9, No. 239, pgs. 74546-74566].

DATES: Comments must be submitted on or before April 18, 2005.

FOR FURTHER INFORMATION CONTACT: Richard Van Iderstine at the National Highway Traffic Safety Administration, Office of Rulemaking (NVS-121), 202-366-4931. 400 Seventh Street, SW., 5307, Washington, DC 20590.

SUPPLEMENTARY INFORMATION:

National Highway Traffic Safety Administration

Title: Replaceable Light Source Dimensional Information Collection, 49 CFR Part 564.

OMB Number: 2127-0563.

Type of Request: Extension of a currently approved collection.

Abstract: The information to be collected is in response to 49 CFR Part 564, “Replaceable Light Source Dimensional Information.” Persons desiring to use newly designed replaceable headlamp light sources are required to submit interchangeability and performance specifications to the agency. After a short agency review to assure completeness, the information is placed in a public docket for use by any person who would desire to manufacture headlamp light sources for highway motor vehicles. In Federal Motor Vehicle Safety Standard No. 108, Lamps, reflective devices and associated equipment,” Part 564 submission are referenced as being the source of information regarding the performance and interchangeability information for legal headlamp light sources, whether original equipment or replacement equipment. Thus, the submitted information about headlamp light sources becomes the basis for certification of compliance with safety standards.

Affected Public: Business or other for profit organizations.

Estimated Total Annual Burden: 28 Hours.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on March 11, 2005.
H. Keith Brewer,
Director, Office of Crash Avoidance.

[FR Doc. 05-5255 Filed 3-16-05; 8:45 am]

BILLING CODE 4910-59-P